DEPARTMENT OF ENERGY

Federal Energy Regulatory Commission

[Project No. 2984-042]

S.D. Warren Company; Notice of Availability of Draft Environmental Assessment

July 11, 2005.

In accordance with the National Environmental Policy Act of 1969 and the Federal Energy Regulatory Commission's (Commission) regulations, 18 CFR part 380 (Order No. 486, 52 FR 47897), the Office of Energy Projects' staff has reviewed the application for new license for the Eel Weir Project, located at the outlet of Sebago Lake, and has prepared a draft Environmental Assessment (EA) for the project. In the draft EA, Commission staff analyzed the potential environmental effects of relicensing the project and concludes that issuing a new license for the project, with appropriate environmental measures, would not constitute a major Federal action that would significantly affect the quality of the human environment.

Copies of the draft EA are available for review in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may register online at http://www.fer.gov/docs-filing/esubscription.asp to be notified via e-mail of new filings and issuances related to this or any other pending projects. For assistance, contact FERC Online Support.

Any comments should be filed within 45 days from the date of this notice and should be addressed to Magalie R. Salas, Secretary, Federal Energy Regulatory Commission, 888 First Street, NE., Washington, DC 20426. Please affix Project No. 2984-042 to all comments. Comments may be filed electronically via the Internet, in lieu of paper. The Commission strongly encourages electronic filings. See 18 CFR 385.2001(a)(1)(iii) and the instructions on the Commission's Web site under the “e-filing” link. For further information, please contact Allan Creamer by telephone at (202) 502-8365 or by e-mail at allan.creamer@ferc.gov.

Magalie R. Salas,
Secretary.

[FR Doc. E5-3827 Filed 7-18-05; 8:45 am]

BILLING CODE 6717-01-P